DEPARTMENT OF COMMERCE

International Trade Administration

[A-570-104, C-570-105]

Alloy and Certain Carbon Steel Threaded Rod From the People's Republic of China; Carbon and Alloy Steel Threaded Rod From the People's Republic of China: Final Affirmative Determination of Circumvention of the Antidumping and Countervailing Duty Orders

AGENCY: Enforcement and Compliance, International Trade Administration, Department of Commerce.

SUMMARY: The U.S. Department of Commerce (Commerce) determines that imports of unthreaded pins of alloy steel from the People's Republic of China (China) are circumventing the antidumping duty order on alloy and certain carbon steel threaded rod from China and the countervailing duty order on carbon and alloy steel threaded rod from China.

DATES: Applicable August 27, 2024.

FOR FURTHER INFORMATION CONTACT: Zachary Krivine, AD/CVD Operations, Office V, Enforcement and Compliance, International Trade Administration, U.S. Department of Commerce, 1401 Constitution Avenue NW, Washington, DC 20230; telephone: (202) 482-3638.

SUPPLEMENTARY INFORMATION:

Background

On March 14, 2024, pursuant to section 781(e)(1)(A) of the Tariff Act of 1930, as amended (the Act), Commerce published the Preliminary Determination and invited interested parties to comment.¹ We notified the U.S. International Trade Commission (ITC) of our affirmative preliminary determination.² Commerce also informed the ITC of its ability under the Act to request consultations with Commerce regarding Commerce's proposed inclusion of inquiry merchandise within the scope of the Orders under the authority of section 781(a) of the Act.³

¹ See Alloy and Certain Carbon Steel Threaded Rod from the People's Republic of China; Carbon and Alloy Steel Threaded Rod from the People's Republic of China: Affirmative Preliminary Determination of Circumvention of the Antidumping and Countervailing Duty Orders, 89 FR 18600 (March 14, 2024) (Preliminary Determination), and accompanying Preliminary Decision Memorandum (PDM).

² See Commerce's Letter, “Preliminary Affirmative Determinations of Circumvention,” dated March 11, 2024.

³ Id.

On March 29, 2024, Birmingham Fastener Inc./Houston Fastener Mfg. Inc. (Birmingham) and Dan Loc Group LLC (Dan Loc) ⁴ and Vulcan Threaded Products Inc. (the petitioner) filed case briefs.⁵ On April 5, 2024, Birmingham and Dan Loc,⁶ and the petitioner filed rebuttal briefs.⁷ On May 31, 2024, Commerce held a public hearing in this matter.⁸

⁴ See Birmingham and Dan Loc's Letter, “Case Brief on Behalf of Birmingham Fastener, Inc., Houston Fastener, Inc. And Dan-Loc Group LLC,” dated March 29, 2024.

⁵ See Petitioner's Letter, “Petitioner's Case Brief,” dated March 29, 2024.

⁶ See Birmingham and Dan Loc's Letter, “Rebuttal Brief on Behalf of Birmingham Fastener, Inc., Houston Fastener, Inc. And Dan-Loc Group LLC,” dated April 5, 2024.

⁷ See Petitioner's Letter, “Petitioner's Rebuttal Brief,” dated April 5, 2024.

⁸ See Hearing Transcript, “In the Matter of: Circumvention Inquiries Regarding Antidumping Duty Order and Countervailing Duty Order on Carbon and Alloy Steel Threaded Rod from the People's Republic of China,” dated May 31, 2024.

On July 22, 2024, Commerce tolled the deadline in these circumvention inquiries by seven days, extending the deadline for issuing the final determination to August 16, 2024.⁹ On August 16, 2024, Commerce extended the deadline for issuing the final determination in these circumvention inquiries by an additional five days, until August 21, 2024.¹⁰

⁹ See Memoranda, “Tolling of Deadlines for Antidumping and Countervailing Duty Proceedings,” dated July 22, 2024; “Extension of Deadline for Final Determination in Circumvention Inquiries,” dated April 30, 2024; and “Second Extension of Deadline for Final Determination in Circumvention Inquiries,” dated June 28, 2024.

¹⁰ See Memorandum, “Additional Extension of Final Determination in Circumvention Inquiries,” dated August 16, 2024.

For a summary of events that occurred since the Preliminary Determination, as well as a full discussion of the issues raised by parties for consideration in the final determination, see the Issues and Decision Memorandum.¹¹ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹¹ See Memorandum, “Decision Memorandum for the Final Determination in the Circumvention Inquiries Regarding the Antidumping Duty Order on Alloy and Certain Carbon Steel Threaded Rod from the People's Republic of China and the Countervailing Duty Order on Carbon and Alloy Steel Threaded Rod from the People's Republic of China,” dated concurrently with, and hereby adopted by, this notice (Issues and Decision Memorandum).

Scope of the Orders ¹²

¹² See Alloy and Certain Carbon Steel Threaded Rod from the People's Republic of China: Antidumping Duty Order, 85 FR 19929 (April 9, 2020) (AD Order); and Carbon and Alloy Steel Threaded Rod from India and the People's Republic of China: Countervailing Duty Orders, 85 FR 19927 (April 9, 2020) (CVD Order) (collectively, Orders).

The merchandise covered by the scope of the AD Order is alloy and certain carbon steel threaded rod from China. The merchandise covered by the scope of the CVD Order is carbon and alloy steel threaded rod from China. For a full description of the scopes, see the Preliminary Determination PDM.

Merchandise Subject to the Circumvention Inquiry

These circumvention inquiries cover unthreaded pins of alloy steel exported from China which are further processed into alloy steel threaded rod in the United States. Unthreaded pins of alloy steel are unthreaded rod, bar, or studs, having a solid, circular cross section of any diameter, in any straight length, and are non-headed. Unthreaded pins may enter unchamfered or with their ends already chamfered. Such pins may also be referenced as “pitch diameter stud blanks” or “blanks.” Unthreaded pins of alloy steel are believed to enter under Harmonized Tariff Schedule of the United States (HTSUS) subheadings 7318.15.5051, 7318.15.5056, 7318.15.5090, 7228.60.8000, 7318.15.2095, 7318.19.0000, and 7318.29.0000, several of which also cover alloy steel threaded rod.

Methodology

Commerce conducted these circumvention inquiries in accordance with section 781(a) of the Act and 19 CFR 351.226. We have continued to apply the methodology relied upon for the Preliminary Determination, including our use of facts available with adverse inferences with respect to Ningbo Zhenghai Yongding Fastener Co., Ltd. (Yongding Fastener) and its affiliated trading company, Ningbo Ningding Import & Export Co. Ltd. (Ningding I&E),¹³ pursuant to sections 776(a) and (b) of the Act, for our final determination. See the Preliminary Determination PDM for a full description of the methodology.¹⁴

¹³ Yongding Fastener exports through Ningding I&E. As in the Preliminary Determination, as adverse facts available, we are treating Yongding Fastener and Ningding I&E, its affiliated trading company, as a single entity.

¹⁴ See Preliminary Determination PDM at 4-30.

Analysis of Comments Received

All issues raised in these inquiries are addressed in the Issues and Decision Memorandum. A list of the issues raised is attached to this notice in Appendix I. Based on our analysis of the comments received from interested parties, we made no changes to the Preliminary Determination.

Final Circumvention Determination

As detailed in the Issues and Decision Memorandum, Commerce determines, pursuant to section 781(a) of the Act, that imports of unthreaded pins of alloy steel from China that are further processed in the United States into subject merchandise are circumventing the Orders. We are applying our decision on a country-wide basis. See the “Suspension of Liquidation and Cash Deposit Requirements” section, below, for details regarding suspension of liquidation and cash deposit requirements.

Certification Requirements

To administer this final affirmative circumvention determination, Commerce is requiring that importers of unthreaded pins of alloy steel from China which will not be threaded into subject merchandise certify that such pins will not be further processed into subject alloy steel threaded rod. Importers will be required to submit a copy of the importer certification as part of the entry summary by uploading them into the document imaging system (DIS) in ACE, and to provide U.S. Customs and Border Protection (CBP) and/or Commerce with the importer certification, and any supporting documentation, upon request of either agency.¹⁵ Properly certified entries are not subject to antidumping and/or countervailing duties under the Orders. Exemption from antidumping and/or countervailing duties under the Orders is permitted only if the certification and documentation requirements specified in Appendices II and III are met.

¹⁵ The importer certification is provided at Appendix III.

Entries of unthreaded pins of alloy steel produced and/or exported by Yongding Fastener or Ningding I&E are not eligible for certification.

Suspension of Liquidation and Cash Deposit Requirements

In accordance with 19 CFR 351.226(l)(3), we will direct CBP to continue the suspension of liquidation of previously suspended entries and to suspend liquidation of all entries of unthreaded pins of alloy steel from China that are entered, or withdrawn from warehouse, for consumption on or after July 12, 2023 (i.e., the date of publication of the Initiation Notice).¹⁶ Pursuant to 19 CFR 351.226(l)(3), we will also instruct CBP to require antidumping and countervailing duty cash deposits for unthreaded pins of alloy steel from China for each unliquidated entry of unthreaded pins of alloy steel from China that have been entered, or withdrawn from warehouse, for consumption on or after July 12, 2023.

¹⁶ See generally Alloy and Certain Carbon Steel Threaded Rod from the People's Republic of China; Carbon and Alloy Steel Threaded Rod from the People's Republic of China: Initiation of Circumvention Inquiries on the Antidumping Duty Order and Countervailing Duty Order, 88 FR 44277 (July 12, 2023) (Initiation Notice).

For entries of unthreaded pins of alloy steel for which the exporter has a company-specific cash deposit rate under the AD Order, the cash deposit rate will be the company-specific antidumping duty cash deposit rate established for that company in the most recently-completed segment of the proceeding. For all Chinese exporters of unthreaded pins of alloy steel that do not have a company-specific cash deposit rate under the AD Order, the antidumping duty cash deposit rate will be the cash deposit rate for the China-wide entity (i.e., 48.91 percent); ¹⁷ for all non-Chinese exporters of unthreaded pins of alloy steel which have not received their own rate, the cash deposit rate will be the rate applicable to the Chinese exporter that supplied that non-Chinese exporter.

¹⁷ See AD Order.

For entries of unthreaded pins of alloy steel for which the producer and/or exporter has a company-specific cash deposit rate under the CVD Order, the cash deposit rate will be the company-specific CVD cash deposit rate established for that company in the most recently-completed segment of the proceeding. For all Chinese producers and/or exporters of unthreaded pins of alloy steel that do not have a company-specific cash deposit rate under CVD Order, the CVD cash deposit rate will be the all-others rate (i.e., 41.17 percent).¹⁸

¹⁸ See CVD Order.

These suspension of liquidation instructions and cash deposit requirements will remain in effect until further notice.

Opportunity To Request an Administrative Review

Each year during the anniversary month of the publication of an antidumping or countervailing duty order, finding, or suspended investigation, an interested party, as defined in section 771(9) of the Act, may request, in accordance with 19 CFR 351.213, that Commerce conduct an administrative review of that antidumping or countervailing order, finding, or suspended investigation. Interested parties who wish to request that Commerce conduct an administrative review should wait until Commerce announces via the Federal Register the next window during the anniversary month of the publication of the antidumping or countervailing duty order to submit such requests. The anniversary month for these Orders is April.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(a) of the Act and 19 CFR 351.226(g)(2).

Dated: August 20, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Orders

IV. Merchandise Subject to the Circumvention Inquiries

V. Period of the Circumvention Inquiries

VI. Discussion of the Issues

Comment 1: Limitations of the Scope Language

Comment 2: The Nature of Unthreaded Pins

Comment 3: U.S. Processing

Comment 4: Certification Requirements

Comment 5: Treatment of Ningbo Zhenghai Yongding Fastener Co., Ltd. (Yongding Fastener)/Ningbo Ningding Import & Export Co. Ltd. (Ningding I&E)

Comment 6: Notification to the U.S. International Trade Commission (ITC)

Comment 7: Retroactivity

VII. Recommendation

Appendix II

Certification Requirements

Importers are required to complete and maintain the applicable importer certification and retain all supporting documentation for the certification. With the exception of the entries described below, the importer certification must be completed, signed, and dated by the time the entry summary is filed for the relevant entry. The importer, or the importer's agent, must transmit the importer's certification to CBP as part of the entry process by uploading it into the document imaging system (DIS) in ACE. Where the importer uses a broker to facilitate the entry process, it should obtain the entry summary number from the broker. Agents of the importer, such as brokers, however, are not permitted to certify on behalf of the importer.

Additionally, the claims made in certifications and any supporting documentation are subject to verification by Commerce and/or CBP. Importers are required to maintain certifications and supporting documentation until the later of: (1) the date that is five years after the latest entry date of the entries covered by the certification; or (2) the date that is three years after the conclusion of any litigation in United States courts regarding such entries.

For all unthreaded pins of alloy steel from China that were entered, or withdrawn from warehouse, for consumption during the period July 12, 2023 (i.e., the date of publication of the Initiation Notice), through March 14, 2024, the date of publication of the preliminary determination in the Federal Register, where the entry has not been liquidated (and for entries for which liquidation has not become final), the relevant certification should already be complete and signed.

For unliquidated entries (and entries for which liquidation has not become final) of unthreaded pins of alloy steel from China that were declared as non-antidumping duty/countervailing duty type entries (e.g., type 01) and entered, or withdrawn from warehouse, for consumption in the United States during the period July 12, 2023 (i.e., the date of publication of the Initiation Notice) through March 14, 2024, the date of publication of the preliminary determination in the Federal Register, for which no importer certification may be made, importers must file a Post Summary Correction with CBP, in accordance with CBP's regulations, regarding conversion of such entries from non- antidumping duty/countervailing duty type entries to antidumping duty/countervailing duty type entries (e.g., type 01 to type 03). The importer should pay cash deposits on those entries consistent with the regulations governing post summary corrections that require payment of additional duties, including antidumping duty/countervailing duties.

If it is determined that an importer has not met the certification and/or related documentation requirements for certain entries, Commerce intends to instruct CBP to suspend, pursuant to this final affirmative country-wide determination of circumvention and the Orders, all unliquidated entries for which these requirements were not met and to require the importer to post applicable antidumping and countervailing duty cash deposits.

Appendix III

Importer Certification

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of unthreaded pins of alloy steel produced in China that entered under the entry summary number(s), identified below, and which are covered by this certification. Unthreaded pins of alloy steel are unthreaded rod, bar, or studs, having a solid, circular cross section of any diameter, in any length, and are non-headed. Unthreaded pins may enter unchamfered or with their ends already chamfered. Such pins may also be referenced as “pitch diameter stud blanks” or “blanks.”

“Direct personal knowledge” refers to facts the certifying party is expected to have in its own records. For example, the importer should have direct personal knowledge of the importation of the product (e.g., the name of the exporter and producer) in its records.

(C) If the importer is acting on behalf of the first U.S. customer, include the following sentence as paragraph C of this certification:

The unthreaded pins of alloy steel covered by this certification were imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

(D) The imported unthreaded pins of alloy steel covered by this certification were shipped to {NAME OF PARTY TO WHOM MERCHANDISE WAS FIRST SHIPPED IN THE UNITED STATES}, located at {ADDRESS OF SHIPMENT}.

(E) Select appropriate statement below:

_ I have direct personal knowledge of the facts regarding the end use of the imported product because my company is the end user of the imported product covered by this certification and I certify that the unthreaded pins of alloy steel will not be used to produce subject merchandise. “Direct personal knowledge” includes information contained within my company's books and records.

_ My company is not the end user of the imported product covered by this certification. However, I have personal knowledge of the facts regarding the end use of the imported products covered by this certification. I have been able to contact the end user of the imported product and confirm that it will not use this product to produce subject merchandise. The end user of the imported product is {COMPANY NAME} located at {ADDRESS}. “Personal knowledge” includes facts obtained from another party (e.g., correspondence received by the importer from the end user of the product).

(F) The imported unthreaded pins of alloy steel from China covered by this certification were not produced and/or exported by either Ningbo Zhenghai Yongding Fastener Co., Ltd. or Ningbo Ningding Import & Export Co. Ltd.

(G) This certification applies to the following entries (repeat this block as many times as necessary):

Entry Summary #:

Entry Summary Line Item #:

Foreign Seller:

Foreign Seller's Address:

Foreign Seller's Invoice #:

Foreign Seller's Invoice Line Item #:

Producer:

Producer's Address:

(H) I understand that {NAME OF IMPORTING COMPANY} is required to maintain a copy of this certification and sufficient documentation supporting this certification (i.e., documents maintained in the normal course of business, or documents obtained by the certifying party, for example, mill certificates, production records, invoices, etc.) for the later of: (1) a period of five years from the date of entry; or (2) a period of three years after the conclusion of any litigation in the United States courts regarding such entries.

(I) I understand that {IMPORTING COMPANY} is required to submit a copy of the importer certification as part of the entry summary by uploading it into the document imaging system (DIS) in ACE, and to provide U.S. Customs and Border Protection (CBP) and/or the U.S. Department of Commerce (Commerce) with the importer certification, and any supporting documentation, upon request of either agency.

(J) I understand that the claims made herein, and the substantiating documentation, are subject to verification by CBP and/or Commerce.

(K) I understand that failure to maintain the required certifications, and/or failure to substantiate the claims made herein, and/or failure to allow CBP and/or Commerce to verify the claims made herein, may result in a de facto determination that all entries to which this certification applies are within the scope of the antidumping/countervailing duty orders on steel threaded rod from China. I understand that such finding will result in:

(i) suspension of liquidation of all unliquidated entries (and entries for which liquidation has not become final) for which these requirements were not met;

(ii) the requirement that the importer post applicable antidumping duty and/or countervailing duty cash deposits (as appropriate) equal to the rates determined by Commerce; and

(iii) the importer no longer being allowed to participate in the certification process.

(L) I understand that agents of the importer, such as brokers, are not permitted to make this certification. Where a broker or other party was used to facilitate the entry process, {NAME OF IMPORTING COMPANY} obtained the entry summary number and date of entry summary from that party.

(M) This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

(N) I am aware that U.S. law (including, but not limited to, 18 U.S.C. 1001) imposes criminal sanctions on individuals who knowingly and willfully make material false statements to the U.S. government.

Signature

{NAME OF COMPANY OFFICIAL}

{TITLE}

{DATE}

[FR Doc. 2024-19200 Filed 8-26-24; 8:45 am]

BILLING CODE 3510-DS-P